DEPARTMENT OF HEALTH AND HUMAN SERVICES

Food and Drug Administration

[Docket No. 00N-1685]

New Food Chemicals Codex Monographs, Revisions of Certain Food Chemicals Codex Monographs, a New General Test Procedure, and Revisions to a Policy; Opportunity for Public Comment; Correction

AGENCY: Food and Drug Administration, HHS.

ACTION: Notice; correction.

SUMMARY: The Food and Drug Administration (FDA) is correcting a notice document that published in the Federal Register of January 22, 2001 (66 FR 6624). The notice announced an opportunity for public comment on proposed new Food Chemicals Codex specification monographs, proposed changes to certain Food Chemicals Codex specification monographs, a proposed new general test procedure, and proposed changes to a policy in the fourth edition. The notice was published with some inadvertent errors. This document corrects those errors.

DATES: Submit written comments by March 8, 2001. (The committee advises that comments received after this date may not be considered for the third supplement to the fourth edition. Comments received too late for consideration for the third supplement will be considered for later supplements or for a new edition of the Food Chemicals Codex.)

FOR FURTHER INFORMATION CONTACT: Paul M. Kuznesof, Division of Product Manufacture and Use (HFS-246), Office of Premarket Approval, Center for Food Safety and Applied Nutrition, Food and Drug Administration, 200 C St. SW., Washington, DC 20204, 202-418-3009.

SUPPLEMENTARY INFORMATION: In FR Doc. 01-1713, appearing on page 6624 in the Federal Register of January 22, 2001, the following corrections are made:

1. On page 6625, in the first column, in the last line of the first paragraph, the Internet address is corrected to read “http://www.iom.edu/fcc.”

2. On the same page beginning in the same column, the formatting of all the entries listed under I. Proposed New Monographs and under II. Current Monographs to Which the Committee Proposes to Make Revisions is corrected to read:

I. Proposed New Monographs

Flavor Chemicals

Acetaldehyde Diethyl Acetal

2-Acetyl Thiazole

Allyl Phenoxy Acetate

Allyl Propionate

Borneol

Butyl 2-Methyl Butyrate

2-sec-Butyl Cyclohexanone

Diphenyl Ether

d-Fenchone

Fenchyl Alcohol

Furfuryl Alcohol

2-Furyl Methyl Ketone

Salatrim

Soy Protein Concentrate

II. Current Monographs to Which the Committee Proposes to Make Revisions

Ammonium Phosphate, Monobasic (fluoride test corrected)

Carmine (description and assay test revised)

Enzyme Preparations (classifications and reactions added for α-Acetolactatedecarboxylase;

Aminopeptidase, Leucine; and Lysozyme) Flavor Chemicals

Cinnamic Acid (solubility in alcohol revised)

d-Dihydrocarvone (solubility in alcohol revised)

2-Heptanone (specific gravity revised)

Hexyl Isovalerate (solubility in alcohol revised)

Isoamyl Benzoate (solubility in alcohol revised)

Nerolidol (assay revised)

(Z)-6-Nonen-1-ol (refractive index revised) alpha-Pinene (angular rotation revised) 2-Undecenol (specific gravity revised)

Potassium Phosphate, Monobasic (fluoride test corrected)

Potassium Phosphate, Tribasic (fluoride test corrected)

Potassium Pyrophosphate (fluoride test corrected)

Potassium Tripolyphosphate (fluoride test corrected)

Sodium Acid Pyrophosphate (fluoride test corrected)

Sodium Metaphosphate, Insoluble (fluoride test corrected)

Sodium Phosphate, Dibasic (fluoride test corrected)

Sodium Phosphate, Monobasic (fluoride test corrected)

Sodium Polyphosphate, Glassy (fluoride test corrected)

Sodium Potassium Tripolyphosphate (fluoride test corrected)

Sodium Trimetaphosphate (fluoride test corrected)

Sodium Tripolyphosphate (fluoride test corrected)

3. On page 6625, in the third column, the last sentence is corrected to read: “Copies of the proposed changes may also be obtained through the Internet at http://www.iom.edu/fcc.”

Dated: February 2, 2001.
L. Robert Lake,
Director of Regulations and Policy, Center for Food Safety and Applied Nutrition.

[FR Doc. 01-3347 Filed 2-8-01; 8:45 am]

BILLING CODE 4160-01-F